DEPARTMENT OF THE TREASURY

Office of Thrift Supervision

[Docket ID OTS-2010-0007]

Open Meeting of the OTS Minority Depository Institutions Advisory Committee

AGENCY: Department of the Treasury, Office of Thrift Supervision.

ACTION: Notice of meeting.

SUMMARY: The OTS Minority Depository Institutions Advisory Committee (MDIAC) will convene a meeting on Wednesday, April 14, 2010, in Conference Room 6A of the Office of Thrift Supervision, 1700 G Street, NW., Washington, DC, beginning at 9 a.m. Eastern Time. The meeting will be open to the public.

DATES: The meeting will be held on Wednesday, April 14, 2010, at 9 a.m. Eastern Time.

ADDRESSES: The meeting will be held at the Office of Thrift Supervision, 1700 G Street, NW., Washington, DC in Conference Room 6A. The public is invited to submit written statements to the MDIAC by any one of the following methods:

• E-mail address: Commaffairs@ots.treas.gov; or

• Mail: To Montrice Godard Yakimov, Acting Designated Federal Official, Office of Thrift Supervision, 1700 G Street, NW., Washington, DC 20552 in triplicate.

The agency must receive statements no later than April 7, 2010.

FOR FURTHER INFORMATION CONTACT: Montrice Godard Yakimov, Acting Designated Federal Official, (202) 906-6173, Office of Thrift Supervision, 1700 G Street, NW., Washington, DC 20552.

SUPPLEMENTARY INFORMATION: By this notice, the Office of Thrift Supervision is announcing that the OTS Minority Depository Institutions Advisory Committee will convene a meeting on Wednesday, April 14, 2010, in Conference Room 6A at the Office of Thrift Supervision, 1700 G Street, NW., Washington, DC, beginning at 9 a.m. Eastern Time. The meeting will be open to the public. Because the meeting will be held in a secured facility with limited space, members of the public who plan to attend the meeting, and members of the public who require auxiliary aid, must contact the Office of Community Affairs at 202-906-7891 by 5 p.m. Eastern Time on Wednesday, April 7, 2010, to inform OTS of their desire to attend the meeting and to provide the information that will be required to facilitate entry into the OTS building. To enter the building, attendees should provide a government issued ID (e.g., driver's license, voter registration card, etc.) with their full name, date of birth, and address. The purpose of the meeting is to advise OTS on ways to meet the goals established by section 308 of the Financial Institutions Reform, Recovery, and Enforcement Act of 1989 (FIRREA), Public Law 101-73, Title III, 103 Stat. 353, 12 U.S.C. 1463 note. The goals of section 308 are to preserve the present number of minority institutions, preserve the minority character of minority-owned institutions in cases involving mergers or acquisitions, provide technical assistance, and encourage the creation of new minority institutions. The MDIAC will help OTS meet those goals by providing informed advice and recommendations regarding a range of issues involving minority depository institutions.

Dated: March 15, 2010.
By the Office of Thrift Supervision.
Montrice Godard Yakimov,
Acting Designated Federal Official.

[FR Doc. 2010-6099 Filed 3-18-10; 8:45 am]

BILLING CODE 6720-01-P